DEPARTMENT OF STATE

[Public Notice: 11512]

Industry Advisory Group; Notice of Open Meeting

The Industry Advisory Group (IAG) of the Bureau of Overseas Buildings Operations (OBO), U.S. Department of State, will meet on Friday, September 17, 2021, from 9:00 a.m. until 1:00 p.m. Eastern Daylight Time. The meeting is open to the public and will be held via Webex Event.

The IAG serves the U.S. government in a solely advisory capacity concerning industry and academia's latest concepts, methods, best practices, innovations, and ideas related to the OBO mission of providing safe, secure, resilient and functional facilities that represent the U.S. government to the host nation and support the Department's achievement of U.S. foreign policy objectives abroad.

The majority of the meeting will be devoted to discussions between the Department's senior management and IAG representatives with respect to industry and academia's latest concepts, methods, best practices, innovations, and ideas related to supporting OBO's vital mission. Additionally, time will be provided for members of the public to provide comment.

To register, please provide your email address via email to IAGR@state.gov prior to September 7. Also, please forward any requests for reasonable accommodation by September 7. You can also visit the OBO website at http://overseasbuildings.state.gov/ for additional information. Requests for reasonable accommodation made after that date will be considered but may not be able to be fulfilled.

Please contact IAGR@state.gov with any questions.

Kevin E. Bryant,
Deputy Director, Office of Directives Management, U.S. Department of State.

[FR Doc. 2021-18224 Filed 8-24-21; 8:45 am]

BILLING CODE 4710-51-P